DEPARTMENT OF THE INTERIOR

Fish and Wildlife Service

50 CFR Part 23

Convention on International Trade in Endangered Species of Wild Fauna and Flora (CITES)

CFR Correction

In Title 50 of the Code of Federal Regulations, Parts 18 to 199, revised as of October 1, 2017, on page 180, in § 23.24, Code “F” is reinstated for Source of specimen “(d) Captive-bred wildlife (§ 23.36):”.

[FR Doc. 2018-07529 Filed 4-10-18; 8:45 am]

BILLING CODE 1301-00-D